DEPARTMENT OF THE INTERIOR

National Park Service

[N6774; NPS-WASO-NAGPRA-NPS0041682; PPWOCRADN0-PCU00RP14.R50000]

Notice of Intended Repatriation: U.S Department of the Interior, Bureau of Indian Affairs, Washington, DC, and Northern Arizona University, Flagstaff, AZ

AGENCY: National Park Service, Interior.

ACTION: Notice.

SUMMARY: In accordance with the Native American Graves Protection and Repatriation Act (NAGPRA), the U.S Department of the Interior, Bureau of Indian Affairs and Northern Arizona University intends to repatriate certain cultural items that meet the definition of unassociated funerary objects, sacred objects, and/or objects of cultural patrimony and that have a cultural affiliation with the Indian Tribes or Native Hawaiian organizations in this notice.

DATES: Repatriation of the cultural items in this notice may occur on or after February 6, 2026.

ADDRESSES: Send additional, written requests for repatriation of the cultural items in this notice to Tamara Billie, U.S. Department of the Interior, Bureau of Indian Affairs, 1001 Indian School Road NW, Mailbox 44, Albuquerque, NM 87104, email tamara.billie@bia.gov.

SUPPLEMENTARY INFORMATION: This notice is published as part of the National Park Service's administrative responsibilities under NAGPRA. The determinations in this notice are the sole responsibility of the U.S Department of the Interior, Bureau of Indian Affairs, and additional information on the determinations in this notice, including the results of consultation, can be found in the summary or related records. The National Park Service is not responsible for the determinations in this notice.

Abstract of Information Available

A total of two cultural items have been requested for repatriation. The one unassociated funerary object is a Cibola White Ware, Escavada Black-on-white, pottery pitcher. The pottery was transferred to Northern Arizona University by a citizen who purchased it at an estate sale in Lynchburg, Virginia. An associated note states that it came from the Dean Kinto Trading Post in Manuelito, New Mexico, and identified it as a “burial jug, Anasazi.” The note further states, “This is a burial jug (never used) which was washed out of an Indian grave and collected by a modern Indian to sell.” Manuelito, New Mexico, and nearby Chaco culture sites lie on Navajo Tribal Trust land. There is no evidence or record of the presence of any potentially hazardous substances used to treat this cultural item.

The one sacred object/object of cultural patrimony is a Navajo wooden re-making doll or figurine. The item was removed from Site AZ D-16-71 (NAU)/JUA 78.138 on Navajo Tribal Trust lands in 1978 by Northern Arizona University archaeologists conducting a fence line survey for the Navajo Hopi Joint Use Area, under contract to the Bureau of Indian Affairs. There is no evidence or record of the presence of any potentially hazardous substances used to treat this cultural item.

Determinations

The U.S Department of the Interior, Bureau of Indian Affairs, has determined that:

• The one unassociated funerary object described in this notice is reasonably believed to have been placed intentionally with or near human remains, and is connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The one sacred object/object of cultural patrimony described in this notice is, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Navajo Nation, Arizona, New Mexico, & Utah.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 6, 2026. If competing requests for repatriation are received, the U.S Department of the Interior, Bureau of Indian Affairs must determine the most appropriate requestor prior to repatriation. Requests for joint repatriation of the cultural items are considered a single request and not competing requests. The U.S Department of the Interior, Bureau of Indian Affairs, is responsible for sending a copy of this notice to the Indian Tribes and Native Hawaiian organizations identified in this notice and to any other consulting parties.

Authority: Native American Graves Protection and Repatriation Act, 25 U.S.C. 3004 and the implementing regulations, 43 CFR 10.9.

Dated: December 18, 2025.
Melanie O'Brien,
Manager, National NAGPRA Program.

[FR Doc. 2026-00072 Filed 1-6-26; 8:45 am]

BILLING CODE 4312-52-P